DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 23, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for special permit is published in accordance with Part 107 of the Federal hazardous materials transportation law (49 U.S.C. 5117(b); 49 CFR 1.53(b)).

Issued in Washington, DC, on May 12, 2008.
Delmer F. Billings,
Director, Office of Hazardous Materials, Special Permits and Approvals.

Application No. | Docket No. | Applicant | Regulation(s) affected | Nature of special permits thereof
NEW SPECIAL PERMITS
14689-N |  | Trinity Industries, Inc., Dallas, TX | 49 CFR 178.337-3(g) | To authorize the manufacture, marking, sale and use of certain MC 331 cargo tank motor vehicles that have baffle support clips welded to the inside of the cargo tank wall. (mode 1).
14690-N |  | Thermo MF Physics, Colorado Springs, CO | 49 CFR 173.304a | To authorize the transportation in commerce of Sulfur hexafluoride, Division 2.2 in non-DOT specification cylinders. (modes 1, 3, 4, 5).
14691-N |  | FedEx Express, Memphis, TN | 49 CFR 172.202; 172.203(c), (k), (m); 172.301; 172.400; 172.302(c) | To authorize the return shipment by motor vehicle of hazardous materials that have been accepted, transported, and subsequently determined to be non-compliant with the Hazardous Materials Regulation's shipping paper, marking or labeling requirements. (mode 1).
14692-N |  | Airgas, Inc., Radnor, PA | 49 CFR 180.209 | To authorize the transportation in commerce of certain DOT-3A, 3AA, 3AX, 3AAX and 3T specification cylinders that are requalified every ten years. (modes 1, 2, 3).
14697-N |  | Air Products and Chemicals, Inc., Allentown, PA | 49 CFR 171.23(a) | To authorize the one-time, one-way transportation in commerce of six non-DOT specification cylinders containing Acetylene, dissolved. (modes 1, 4).
14699-N |  | Lawrence Livermore National Laboratory, Livermore, CA | 49 CFR 173.212 and 173.241 | To authorize the one-time, one-way transportation in commerce of encapsulated Lithium hydride, fused solid in a non-DOT specification packaging. (mode 1).
14700-N |  | Pentair Water Treatment Company, Chardon, OH | 49 CFR 173.302a and 173.306(g) | To authorize the transportation in commerce of non-DOT specification cylinders under the exception provided for water pump system tanks in 49 CFR 173.306(g). (mode 1).
14704-N |  | Worldpac, Inc., Newark, CA | 49 CFR 173.159(e) | To authorize the transportation in commerce of lead acid batteries under the exception provided in 49 CFR 173.159(e) with other hazardous materials classed as ORM-D on the same motor vehicle. (mode 1).
14705N |  | packgen Corporation, Auburn, ME | 49 CFR 178.812 | To authorize the transportation in commerce of certain IBCs that have not been tested under § 178.812 Top Lift Test requirements. (mode 1).

[FR Doc. E8-11229 Filed 5-21-08; 8:45 am]

BILLING CODE 4909-60-M